COMMODITY FUTURES TRADING COMMISSION

Sunshine Act Meetings

TIME AND DATE: 9:00 a.m., Thursday, January 30, 2020.

PLACE: CFTC Headquarters, Lobby-Level Hearing Room, Three Lafayette Centre, 1155 21st Street NW, Washington, DC.

STATUS: Open.

MATTERS TO BE CONSIDERED: The Commodity Futures Trading Commission (“Commission” or “CFTC”) will hold this meeting to consider the following matters:

• Proposed Rule: Position Limits for Derivatives; and

• Proposed Rule: Amendments to Codify No-Action Relief in Swap Execution Facility and Real-Time Reporting Requirements.

This meeting will consist of a morning and an afternoon session. The morning session will convene at 9:00 a.m. and will include consideration of the Proposed Rule on Position Limits for Derivatives. The afternoon session will convene at 1:30 p.m. and will include consideration of the Proposed Rule on Amendments to Codify No-Action Relief in Swap Execution Facility and Real-Time Reporting Requirements.

The agenda for this meeting will be available to the public and posted on the Commission's website at https://www.cftc.gov. In the event that the time, date, or place of this meeting changes, an announcement of the change, along with the new time, date, or place of the meeting, will be posted on the Commission's website.

CONTACT PERSON FOR MORE INFORMATION: Christopher Kirkpatrick, Secretary of the Commission, 202-418-5964.

Authority: 5 U.S.C. 552b.

Dated: January 23, 2020.
Christopher Kirkpatrick,
Secretary of the Commission.

[FR Doc. 2020-01460 Filed 1-23-20; 4:15 pm]

BILLING CODE 6351-01-P